COMMITTEE FOR PURCHASE FROM PEOPLE WHO ARE BLIND OR SEVERELY DISABLED

Procurement List; Proposed deletions

AGENCY: Committee for Purchase From People Who Are Blind or Severely Disabled.

ACTION: Proposed deletions from the Procurement List.

SUMMARY: The Committee is proposing to delete products and services from the Procurement List that were previously furnished by nonprofit agencies employing persons who are blind or have other severe disabilities.

DATES: Comments must be received on or before: August 12, 2018.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following products and services are proposed for deletion from the Procurement List:

Products

NSN(s)—Product Name(s):

8415-01-581-6578—Liner, Parka, U.S. Navy, Coyote Brown, Medium/XX-Long

8415-01-588-8415—Liner, Parka, U.S. Navy, Coyote Brown, Medium/XX-Long

Mandatory Source(s) of Supply: Winston-Salem Industries for the Blind, Inc., Winston-Salem, NC, Bestwork Industries for the Blind, Inc., Cherry Hill, NJ

Contracting Activity: W6QK ACC-APG NATICK

NSN(s)—Product Name(s): 8415-01-588-8415—Liner, Parka, U.S. Navy, Coyote Brown, Medium/XX-Long

Mandatory Source of Supply: Bestwork Industries for the Blind, Inc., Cherry Hill, NJ

Contracting Activity: DLA Troop Support

Services:

Service Type: Operation of Postal Service Center Service

Mandatory for: Eglin Air Force Base: East of Memorial Trail (excluding the airfield) Eglin, FL

Mandatory Source of Supply: Lakeview Center, Inc., Pensacola, FL

Contracting Activity: Dept. of the Air Force, FA2823 AFTC PZIO

Service Type: Furniture Service

Mandatory for:

MCALF Bogue Field, HWY 70, Bogue, NC

MCAS Cherry Point, Hwy 101, Cherry Point, NC

MCOLF Atlantic Field, Air Base Road, Atlantic, NC

Mandatory Source of Supply: Coastal Enterprises of Jacksonville, Inc., Jacksonville, NC

Contracting Activity: DOD/Department of the Navy

Service Type: Custodial Service

Mandatory for: U.S. Geological Survey, Willamette Research Station, 1350 SE Goodnight Avenue, Corvallis, OR

Mandatory Source of Supply: Willamette Valley Rehabilitation Center, Inc., Lebanon, OR

Contracting Activity: Geological Survey, Office of Acquisition and Grants—Sacramento

Service Type: Janitorial/Custodial Service

Mandatory for: Department of the Air Force: 440th Airlift Wing, 300 East College Avenue, Milwaukee, WI

Mandatory Source of Supply: Milwaukee Center for Independence, Inc., Milwaukee, WI

Contracting Activity: Dept. of the Air Force, FA6605 440 AW LGC GEN Mitchel ARS

Service Type: Custodial Service

Mandatory for: Air National Guard, 1401 Robert B. Miller, Jr., Drive, Garden City, GA

Mandatory Source of Supply: Trace, Inc., Boise, ID

Contracting Activity: Dept of the Army, W7M3 USPFO Activity GA ARNG

Service Type: Parts Sorting—Hardware Service

Mandatory for: Robins Air Force Base, Robins AFB, GA

Mandatory Source of Supply: Houston County Association for Exceptional Citizens, Inc., Warner Robins, GA

Contracting Activity: Dept. of the Air Force, FA7014 AFDW PK

Amy B. Jensen,
Director, Business Operations.

[FR Doc. 2018-15033 Filed 7-12-18; 8:45 am]

BILLING CODE 6353-01-P